ENVIRONMENTAL PROTECTION AGENCY

40 CFR Part 52

[EPA-R04-OAR-2013-0147; FRL-9816-6]

Approval and Promulgation of Implementation Plans; Atlanta, Georgia 1997 8-Hour Ozone Nonattainment Area; Reasonable Further Progress Plan

AGENCY: Environmental Protection Agency (EPA).

ACTION: Direct final rule.

SUMMARY: EPA is taking direct final action to approve a state implementation plan (SIP) revision, submitted by the State of Georgia, through the Georgia Environmental Protection Division (GA EPD), on October 21, 2009, to address the reasonable further progress (RFP) plan requirements for the Atlanta, Georgia 1997 8-hour ozone national ambient air quality standards (NAAQS) nonattainment area. The Atlanta, Georgia 1997 8-hour ozone nonattainment area (hereafter referred to as the “Atlanta Area” or “the Area”) is comprised of Barrow, Bartow, Carroll, Cherokee, Clayton, Cobb, Coweta, Dekalb, Douglas, Fayette, Forsyth, Fulton, Gwinnett, Hall, Henry, Newton, Paulding, Rockdale, Spalding and Walton Counties in Georgia. EPA is also finding adequate the motor vehicle emissions budgets (MVEB) for volatile organic compounds (VOC) and nitrogen oxides (NOx) that were included in Georgia's RFP plan. Further, EPA is approving these MVEB. Additionally, as an administrative update EPA is also removing the numbering system from the non-regulatory provisions in the Code of Federal Regulations.

DATES: This direct final rule is effective July 29, 2013 without further notice, unless EPA receives adverse comment by June 28, 2013. If EPA receives such comments, it will publish a timely withdrawal of the direct final rule in the Federal Register and inform the public that the rule will not take effect.

ADDRESSES: Submit your comments, identified by Docket ID Number, “EPA-R04-OAR-2013-0147,” by one of the following methods:

1. www.regulations.gov: Follow the on-line instructions for submitting comments.

2. Email: R4-RDS@epa.gov.

3. Fax: 404-562-9019.

4. Mail: “EPA-R04-OAR-2013-0147,” Regulatory Development Section, Air Planning Branch, Air, Pesticides and Toxics Management Division, U.S. Environmental Protection Agency, Region 4, 61 Forsyth Street SW., Atlanta, Georgia 30303-8960.

5. Hand Delivery or Courier: Ms. Lynorae Benjamin, Chief, Regulatory Development Section, Air Planning Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 a.m. to 4:30 p.m., excluding federal holidays.

Instructions: Direct your comments to Docket ID Number, “EPA-R04-OAR-2013-0147.” EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Regulatory Development Section, Air Planning Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday, 8:30 to 4:30, excluding federal holidays.

FOR FURTHER INFORMATION CONTACT: Ms. Sara Waterson of the Regulatory Development Section, in the Air Planning Branch, Air, Pesticides and Toxics Management Division, U.S. Environmental Protection Agency, Region 4, 61 Forsyth Street SW., Atlanta, Georgia 30303-8960. The telephone number is (404) 562-9061. Ms. Sara Waterson can be reached via electronic mail at waterson.sara@epa.gov.

SUPPLEMENTARY INFORMATION:

Table of Contents

I. What action is EPA taking?

II. What is the background for EPA's action?

III. What is EPA's analysis of the RFP Plan for the Atlanta area for the 1997 8-Hour Ozone NAAQS?

IV. What are the 2008 NOX and VOC emissions inventories for the Atlanta area?

V. What is EPA's Analysis of the 2008 MVEB for the Atlanta Area?

VI. What is the status of EPA's adequacy determination for the 2008 MVEB for the Atlanta area?

VII. Final Action

VIII. Statutory and Executive Order Reviews

I. What action is EPA taking?

EPA is approving changes to the Georgia SIP, submitted by the State of Georgia through GA EPD, on October 21, 2009, to meet RFP ¹ requirements of the Clean Air Act (CAA or Act) for the Atlanta Area for the 1997 8-hour ozone NAAQS.² The RFP plan demonstrates that NOX emissions will be reduced by at least 15 percent for the 13-County portion ³ of the Atlanta ozone nonattainment area (hereafter referred to as the “13-County Area”) and VOC emissions will be reduced by at least 15 percent for the seven-county portion ⁴ of the Atlanta ozone nonattainment area (hereafter referred to as the “7-County Area”) during the period of 2002 through 2008. Additionally, EPA is approving the required 2008 VOC MVEB and the 2008 NOX MVEB, which were included in the October 21, 2009, RFP plan for the Atlanta Area. EPA is taking these actions because they are consistent with CAA requirements for RFP. The MVEB for the Atlanta Area, expressed in tons per day (tpd), are provided in Table 1 below. EPA is also describing the status of its transportation conformity adequacy determination for the 2008 MVEB.

¹ For the 1997 8-hour ozone NAAQS, the plan to demonstrate reasonable further progress is known as the RFP plan; whereas the plan to demonstrate reasonable further progress for the 1-hour ozone NAAQS is known as the Rate-of-Progress (ROP) plan.

² Georgia previously submitted the ROP plan (also referred to as the 15 Percent VOC Plan) for the portion of the Atlanta Area that was previously designated nonattainment for the former 1-hour ozone NAAQS. EPA approved Georgia's ROP plan for the 1-hour ozone NAAQS for the Atlanta Area on April 26, 1999. See 64 FR 20196.

³ The 13-County portion includes the counties designated nonattainment in the 1-hour ozone nonattainment area: Cherokee, Clayton, Cobb, Coweta, DeKalb, Douglas, Fayette, Forsyth, Fulton, Gwinnett, Henry, Paulding, and Rockdale. See 56 FR 56694, November 6, 1991.

⁴ Seven additional “ring” counties were added to the original 1-hour ozone nonattainment area for the 8-hour ozone nonattainment designations. These additional counties include: Barrow, Bartow, Carroll, Hall, Newton, Spalding, and Walton. See 69 FR 23857, April 30, 2004.

Table 1—MVEB for the 1997 8-Hour Ozone Atlanta Area
2008 20-County MVEB (tpd) | 2008 20-County MVEB (tpd): VOC | 2008 20-County MVEB (tpd): NOX
Total | 171.83 | 272.67

II. What is the background for EPA's action?

A. General Background

On July 18, 1997, EPA promulgated a revised 8-hour ozone NAAQS of 0.08 parts per million (ppm) (62 FR 38856). Under EPA's regulations at 40 CFR part 50, the 1997 8-hour ozone NAAQS is attained when the 3-year average of the annual fourth highest daily maximum 8-hour average ambient air quality ozone concentrations is less than or equal to 0.08 ppm (i.e., 0.084 ppm when rounding is considered). See 69 FR 23857, April 30, 2004. Ambient air quality monitoring data for the 3-year period must meet the data completeness requirement as determined in 40 CFR part 50, appendix I. The ambient air quality monitoring data completeness requirement is met when the average percent of days with valid ambient monitoring data is greater than 90 percent, and no single year has less than 75 percent data completeness.

Upon promulgation of a new or revised NAAQS, the CAA requires EPA to designate as nonattainment any area that is violating the NAAQS, based on the three most recent years of ambient air quality data at the conclusion of the designation process. The Atlanta Area was designated nonattainment for the 1997 8-hour ozone NAAQS on April 30, 2004 (effective June 15, 2004), using 2001-2003 ambient air quality data. See 69 FR 23857, April 30, 2004. The Atlanta Area encompasses the 13 counties of the former 1-hour ozone nonattainment area plus the seven additional “ring” counties. At the time of designation the Atlanta Area was classified as a marginal nonattainment area for the 1997 8-hour ozone NAAQS. In the April 30, 2004, Phase I Ozone Implementation Rule, EPA established ozone nonattainment area attainment dates based on Table 1 of section 181(a) of the CAA. This established an attainment date 3 years after the June 15, 2004, effective date for areas classified as marginal areas for the 1997 8-hour ozone nonattainment designations. Therefore, the Atlanta Area's original attainment date was June 15, 2007. See 69 FR 23951, April 30, 2004.

The Atlanta Area failed to attain the 1997 8-hour ozone NAAQS by June 15, 2007 (the applicable attainment date for marginal nonattainment areas), and did not qualify for any extension of the attainment date as a marginal area. As a consequence of this failure, on March 6, 2008, EPA published a rulemaking determining that the Atlanta Area failed to attain and, consistent with section 181(b)(2) of the CAA, the Atlanta Area was reclassified by operation of law to the next highest classification, or “moderate” nonattainment. See 73 FR 12013, March 6, 2008. When an area is reclassified, a new attainment date for the reclassified area must be established. Section 181 of the CAA explains that the attainment date for moderate nonattainment areas shall be as expeditiously as practicable, but no later than six years after designation, or June 15, 2010. EPA further required that Georgia submit SIP revisions to meet the new moderate area requirements as expeditiously as practicable, but no later than December 31, 2008.

Under certain circumstances, the CAA allows for extensions of the attainment dates prescribed at the time of the original nonattainment designation. In accordance with CAA section 181(a)(5), EPA may grant up to two, one-year extensions of the attainment date under specified conditions. On November 30, 2010, EPA determined that Georgia met the CAA requirements to obtain a one-year extension of the attainment date for the 1997 8-hour ozone NAAQS for the Atlanta Area. See 75 FR 73969. As a result, EPA extended the Atlanta Area's attainment date from June 15, 2010, to June 15, 2011, for the 1997 8-hour ozone NAAQS.

Subsequently, on June 23, 2011, EPA determined that the Atlanta Area attained the 1997 8-hour ozone NAAQS. See 76 FR 36873. The determination of attaining data was based upon quality-assured and certified ambient air monitoring data for the 2008-2010 period, showing that the Area had monitored attainment of the 1997 8-hour ozone NAAQS. As a result of the determination of attainment, the requirements for the Area to submit an attainment demonstration and associated reasonable available control measures (RACM), RFP plan, contingency measures, and other planning SIP revisions related to attainment of the 1997 8-hour ozone NAAQS were suspended. These nonattainment related SIP obligations remain suspended so long as the Area continues to attain the 1997 8-hour ozone NAAQS. See 40 CFR 52.582(d).

On February 16, 2012, Georgia withdrew the attainment demonstration submissions (except RFP, emissions statements, and the emissions inventory) as allowed by 40 CFR 51.918 for the Atlanta Area.⁵ Subsequently, EPA approved Georgia's SIP revisions related to the emissions statements and emissions inventory requirements for the Atlanta Area for the 1997 8-hour ozone NAAQS. See 74 FR 62249 (November 27, 2009); and 77 FR 24399 (March 24, 2012), respectively. Despite the determination of attainment, Georgia opted to leave the SIP submission related to the RFP requirements for the 1997 8-hour ozone NAAQS before EPA for action. As such, EPA is taking action to approve Georgia's October 21, 2009, SIP revision as it relates to the RFP requirements for the 1997 8-hour ozone NAAQS.

⁵ Georgia did not withdraw any elements related to reasonably available control technology (RACT) requirements, to the extent that these requirements were addressed in the attainment demonstration submissions. EPA has taken previous action to approve Georgia SIP revisions, including portions of the October 21, 2009, SIP revision, related to RACT. See 77 FR 59554, September 28, 2012.

B. Background for ROP Requirements for the 1-Hour Ozone NAAQS

Because Atlanta was classified as a “serious” nonattainment area under the 1-hour ozone NAAQS, Georgia was required to develop a SIP to reduce emissions of VOC in the 13-County Atlanta 1-hour ozone nonattainment area by 15 percent from 1990 to 1996. The plan, also known as Georgia's ROP plan SIP or the 15 Percent VOC Plan, was approved on April 26, 1999. See 64 FR 20186.

The CAA also requires post-1996 emission reductions of VOC and/or NOX totaling 3 percent per year, averaged over each consecutive three-year period beginning in 1996 and continuing through the attainment date. Georgia chose to rely solely on NOX emission reductions in its post-1996 ROP SIP (the 9 Percent Plan). This plan was required to describe how Georgia would achieve RFP towards attaining the 1-hour ozone NAAQS between 1996 and 1999, the attainment deadline for serious nonattainment areas. Georgia's 9 Percent Plan was approved on March 19, 1999. See 64 FR 13348.

On September 26, 2003, EPA re-classified the 13-county Atlanta 1-hour ozone nonattainment area to “severe.” See 68 FR 55469. Among other requirements, this reclassification required submission of a severe area post-1999 ROP SIP. A severe area post-1999 ROP SIP must describe how at least a 3 percent per year reduction in emissions of ozone precursors (VOC or NOX) will be achieved, from the time of failure to meet the “serious” area attainment date until the “severe” area attainment date.

The Atlanta severe area post-1999 ROP SIP contained a description of how the 3 percent per year reductions in ozone precursor emissions, required over the period from November 15, 1999, through November 15, 2004, were achieved. It also contained MVEB for the Atlanta 1-hour ozone nonattainment area. GA EPD submitted the post-1999 ROP SIP and MVEB on December 24, 2003. EPA approved Georgia's post-1999 ROP SIP for the Atlanta Area on July 19, 2004 (69 FR 42880). EPA's approval of Georgia's post-1999 ROP SIP for the Atlanta Area completed the State's obligation related to ROP for the 1-hour ozone NAAQS.

C. Background for RFP Requirements for the 1997 8-hour Ozone NAAQS

On November 29, 2005 (70 FR 71612), as revised on June 8, 2007 (72 FR 31727), EPA published a rule entitled “Final Rule To Implement the 8-Hour Ozone National Ambient Air Quality Standard—Phase 2; Final Rule To Implement Certain Aspects of the 1990 Amendments Relating to New Source Review and Prevention of Significant Deterioration as They Apply in Carbon Monoxide, Particulate Matter and Ozone NAAQS; Final Rule for Reformulated Gasoline” (hereafter referred to as the Phase 2 Rule). Section 182(b)(1) of the CAA and EPA's Phase 2 Rule ⁶ require a state, for each 1997 8-hour ozone nonattainment area that is classified as moderate, to submit an emissions inventory and a RFP plan to show how the state will reduce emissions of VOC.

⁶ RFP regulations are at 40 CFR 51.910.

Specifically, in ozone nonattainment areas with air quality classified as “moderate” or worse, the RFP requirement prescribes emission reductions from the baseline totaling 15 percent within six years of the base year (i.e., by the end of 2008 for the 8-hour ozone NAAQS). Per 40 CFR part 51.910(a)(1)(iii), moderate and higher classification areas of which a portion has an approved 1-hour ozone 15 Percent VOC Plan can choose to treat the nonattainment area as two parts, each with a separate RFP target, and may substitute reductions in NOX for VOC in the sub-area with the approved 15 Percent Plan. The 15 percent reduction for the sub-area without an approved 1-hour ozone 15 Percent VOC Plan, however, must be achieved entirely through VOC reductions. Georgia relied solely on NOX emission reductions for the 13-County portion of the Atlanta Area with an approved 15 Percent VOC Plan.

Pursuant to CAA section 172(c)(9), RFP plans must include contingency measures that will take effect without further action by the State or EPA, which includes additional controls that would be implemented if the Area fails to reach the RFP milestones. While the CAA does not specify the type of measures or quantity of emissions reductions required, EPA provided guidance interpreting the CAA that implementation of these contingency measures would provide additional emissions reductions of up to 3 percent of the adjusted base year inventory in the year following the RFP milestone year (i.e., in this case 2008). For more information on contingency measures please see the April 16, 1992, General Preamble (57 FR 13498, 13510) and the November 29, 2005, Phase 2 8-hour ozone standard implementation rule (70 FR 71612, 71650). Finally, RFP plans must also include a MVEB for the precursors for which the plan is developed. See Section IV of this rulemaking for more information on MVEB requirements.

As mentioned above, the Atlanta Area was designated nonattainment for the 1997 8-hour ozone NAAQS. Specifically, 20 counties in the Atlanta Area (including the 13 counties that were included in the former 1-hour ozone nonattainment area) were classified as a “moderate” nonattainment area. Georgia submitted its RFP plan and additional SIP revision under a separate cover letter on October 21, 2009, including an attainment demonstration, associated RACM, RACT, contingency measures, a 2002 base year emissions inventory and other planning SIP revisions related to attainment of the 1997 8-hour ozone NAAQS in the Atlanta Area. Today's rulemaking is approving only the RFP plan, including the associated MVEB.

III. What is EPA's analysis of the RFP plan for the Atlanta area for the 1997 8-Hour ozone NAAQS?

On October 21, 2009, Georgia submitted the RFP plan for the Atlanta Area to address the CAA's requirements for the 1997 8-hour ozone NAAQS. The Atlanta Area RFP is for the entire 20-County Area; however, GA EPD has chosen to look at the 13-County Area and 7-County Area separately for the purposes of calculating the RFP targets for NOX and VOC, respectively. Regardless of the separation of the 13-County Area and the 7-County Area, NOX and VOC reductions in the entire 20-County Area are available. Therefore, there are “unclaimed” 2008 NOX reductions available from the 7-County Area without an approved 1-hour ozone 15 Percent VOC Plan where RFP must be demonstrated in VOC reductions and there are “unclaimed” 2008 VOC reductions available from the 13-County Area for which there is an approved 1-hour ozone 15 Percent VOC Plan. EPA's analysis of Georgia's RFP submission is provided below.

A. Base Year Emissions Inventory

An emissions inventory is a comprehensive, accurate, current inventory of actual emissions from all sources and is required by section 182(a)(1) of the CAA. Georgia implemented the 15 percent NOX reductions for the 13 counties in the former 1-hour ozone nonattainment area and the 15 percent VOC reduction for the seven ring counties between 2002 and 2008 with continued progress toward attainment through the attainment year.⁷ EPA recommended 2002 as the base year for the emissions inventory, and therefore, 2002 is the starting point for calculating RFP. Georgia submitted its 2002 base year emissions inventory on October 21, 2009. In an action on March 24, 2012, EPA approved Georgia's 2002 base year emissions inventory for the Atlanta Area for the 1997 8-hour ozone NAAQS. See 77 FR 24399. A summary of the Atlanta Area 2002 base year emissions inventories is included in Table 2 below.

⁷ The Atlanta Area attained the 1997 8-hour ozone NAAQS by June 15, 2011, based on 2008-2010 data.

Table 2—2002 Point and Area Sources Annual Emissions for the Atlanta Area
[tons per year]
County | Point: NOX | Point: VOC | Area: NOX | Area: VOC | On-road: NOX | On-road: VOC | Non-road: NOX | Non-road: VOC
Barrow | 0.06 | 0.02 | 0.45 | 3.74 | 5.69 | 4.30 | 1.41 | 0.75
Bartow | 69.92 | 1.31 | 1.30 | 8.05 | 15.76 | 10.56 | 3.89 | 2.54
Carroll | 0.06 | 0.85 | 1.30 | 9.54 | 10.91 | 8.10 | 2.39 | 1.87
Cherokee | 0.20 | 0.13 | 0.72 | 6.30 | 10.25 | 5.17 | 3.59 | 5.30
Clayton | 0.30 | 1.29 | 1.08 | 9.53 | 19.96 | 9.90 | 19.21 | 3.83
Cobb | 12.62 | 0.89 | 4.12 | 28.18 | 50.66 | 26.84 | 12.67 | 18.82
Coweta | 23.08 | 0.62 | 0.89 | 3.94 | 7.86 | 3.75 | 3.30 | 2.49
DeKalb | 0.49 | 4.66 | 4.06 | 44.67 | 63.33 | 31.21 | 9.98 | 16.76
Douglas | 0.06 | 0.08 | 0.48 | 3.93 | 9.70 | 4.54 | 1.87 | 1.26
Fayette |  |  | 0.77 | 4.69 | 5.20 | 2.84 | 2.18 | 1.91
Forsyth | 0.12 | 0.48 | 0.84 | 4.82 | 8.41 | 4.28 | 3.11 | 5.36
Fulton | 5.46 | 5.42 | 6.59 | 49.47 | 91.42 | 46.10 | 20.02 | 17.19
Gwinnett | 0.09 | 0.13 | 4.55 | 32.02 | 49.26 | 25.20 | 15.36 | 23.85
Hall | 0.29 | 0.69 | 2.79 | 13.69 | 15.12 | 11.59 | 3.80 | 6.47
Henry | 6.44 | 1.34 | 0.60 | 5.26 | 13.40 | 6.40 | 4.68 | 2.75
Newton | 0.00 | 2.01 | 0.79 | 5.21 | 6.72 | 4.95 | 1.95 | 1.29
Paulding |  |  | 0.26 | 3.51 | 4.76 | 2.57 | 2.66 | 1.43
Rockdale | 0.08 | 0.44 | 1.00 | 4.28 | 5.70 | 2.88 | 1.59 | 1.42
Spalding | 0.00 | 0.18 | 0.79 | 5.95 | 5.25 | 4.14 | 0.87 | 1.21
Walton | 0.01 | 0.32 | 0.47 | 4.92 | 5.72 | 4.66 | 1.70 | 1.53

As mentioned above, EPA has already approved this emissions inventory and thus is not taking comment on these inventories in today's action.

B. Adjusted Base Year Inventory and 2008 RFP Target Levels

The process for determining the emissions baseline from which the RFP reductions are calculated is described in section 182(b)(1) of the CAA and 40 CFR 51.910. This baseline value is the 2002 adjusted base year inventory. Sections 182(b)(1)(B) and (D) require the exclusion from the base year inventory of emissions benefits resulting from the Federal Motor Vehicle Control Program (FMVCP) regulations promulgated prior to January 1, 1990, and the Reid Vapor Pressure (RVP) regulations promulgated prior to June 11, 1990. The FMVCP and RVP emissions reductions were determined by the State using EPA's on-road mobile source emissions modeling software, MOBILE6, which was the latest model at the time this submission was developed; 2002 speeds and vehicle miles traveled (VMT) from Atlanta Regional Commission's (ARC) travel demand model networks; and area-specific fleet age distributions. The FMVCP and RVP emission reductions are then removed from the base year inventory by the State, resulting in an adjusted base year inventory. The emission reductions needed to satisfy the RFP requirement are then calculated from the adjusted base year inventory. These reductions are then subtracted from the adjusted base year inventory to establish the emissions target for the RFP milestone year (2008).

For moderate areas like the Atlanta Area, the CAA specifies a 15 percent reduction in ozone precursor emissions over an initial six year period following the baseline inventory year. In the Phase 2 Rule, EPA interpreted this requirement for areas that were also designated nonattainment and classified as moderate or higher for the 1-hour ozone NAAQS. In the Phase 2 Rule, EPA provided that an area classified as moderate or higher that has the same boundaries as an area, or is entirely composed of several areas or portions of areas, for which EPA fully approved a 15 percent plan for the 1-hour NAAQS, is considered to have met the requirements of section 182(b)(1) of the CAA for the 8-hour NAAQS. In this situation, a moderate nonattainment area is subject to RFP under section 172(c)(2) of the CAA and shall submit, no later than 3 years after designation for the 8-hour NAAQS, a SIP revision that meets the requirements of 40 CFR 51.910(b)(2). For an area like Atlanta, the RFP SIP revision must provide for a 15 percent emission reduction (either NOX and/or VOC) accounting for any growth that occurs during the six year period following the baseline emissions inventory year, that is, 2002-2008.

The Atlanta Area that was classified as severe under the 1-hour ozone NAAQS contained the counties Cherokee, Clayton, Cobb, Coweta, DeKalb, Douglas, Fayette, Forsyth, Fulton, Gwinnett, Henry, Paulding, and Rockdale. These 13 counties plus 7 “ring” counties (Barrow, Bartow, Carroll, Hall, Newton, Spalding, and Walton) were also designated nonattainment as a part of the 1997 8-hour ozone Atlanta Area. Per 40 CFR part 51.910(a)(1)(iii), moderate areas of which a portion has an approved 1-hour ozone 15 Percent VOC Plan can choose to treat the nonattainment area as two parts, each with a separate RFP target, and may substitute reductions in NOX for VOC in the sub-area with the approved 15 Percent Plan. The 15 percent reduction for the sub-area without an approved 15 Percent VOC Plan must still be entirely VOC. Since a 15 percent ROP⁸ plan was submitted for the 1-hour ozone Area, the 13-County 2002 base year NOX inventory was adjusted and the 7-County base year VOC inventory was adjusted.

⁸ As mentioned above, for the 1-hour ozone NAAQS, the plan to demonstrate progress towards attainment was known as the ROP plan; whereas for the 8-hour ozone NAAQS, this same plan is known as the RFP plan.

As mentioned earlier and according to section 182(b)(1)(D) of the CAA, emission reductions that resulted from the FMVCP and RVP rules promulgated prior to 1990 are not creditable for achieving RFP emission reductions. Therefore, the 2002 base year inventory is adjusted by subtracting the VOC and NOX emission reductions that are expected to occur between 2002 and the future milestone years due to the FMVCP and RVP rules.

In the Phase 2 Rule, promulgated on November 29, 2005 (70 FR 71612), EPA outlines Method 1 as the process that states should use to show compliance with RFP for areas like the Atlanta Area that already have an approved ROP plan. A summary of the steps for Method 1 is provided below.

• Step A is the actual anthropogenic base year VOC emissions inventory in 2002.

• Step B is to account for creditable emissions for RFP.

• Step C is to calculate non-creditable emissions for RFP. Non-creditable emissions include emissions from: (1) motor vehicle exhaust or evaporative emissions regulations promulgated prior to January 1, 1990; (2) regulations concern RVP promulgated prior to November 15, 1990; (3) RACT corrections required prior to November 1990; and (4) corrective inspection and maintenance (I/M) plan required prior to November 1990. Step D is to subtract the non-creditable emissions (Step C) from the 2002 base year emissions (Step A).

• Step E is to calculate the 2008 target level VOC emissions. This is calculated by reducing the emissions from Step D by 15 percent.

• The estimated 2008 VOC emissions are then compared to the 2008 target level VOC emissions (Step E).

As provided in Georgia's RFP SIP revision, the State utilized the steps from Method 1 of the Phase 2 Rule. Specifically, Georgia's October 21, 2009, SIP revision sets out the State's calculations as summarized below.

1. Step A: Estimate the actual anthropogenic base year NOX inventory in 2002 with all 2002 control programs in place for all sources for the 13-County area and VOC inventory in 2002 with all 2002 control programs in place for all sources for the 7-County area.

Georgia provided this emission inventory in Tables 1 and 2 of the October 21, 2009, RFP plan for the Atlanta Area, and as shown in Tables 3 and 4, below. EPA has already approved this inventory. See 77 FR 24399 (April 4, 2012).

Table 3—7-County 2002 RFP Base Year VOC Inventory
[Tons/day]
| Point | Area | Non-road mobile | On-road mobile | Total
7-County 2002 RFP Base Year VOC Inventory | 6.4 | 50.8 | 15.9 | 50.5 | * 123.5
* Numbers are those provided in the October 21, 2009, submittal and reflect rounding conventions.

Table 4—13-County 2002 RFP Base Year NOX Inventory
[Tons/day]
| Point | Area | Non-road mobile | On-road mobile | Total
13-County 2002 RFP Base Year NOX Inventory | 84.1 | 24.5 | 111.3 | 342.1 | * 562.1
* Numbers are those provided in the October 21, 2009, submittal and reflect rounding conventions.

2. Step B: Using the same highway vehicle activity inputs used to calculate the actual 2002 inventory, run the appropriate motor vehicle emissions model for 2002 and for 2008 with all post-1990-CAA measures turned off. Any other local inputs for vehicle I/M programs should be set according to the program that was required to be in place in 1990. Fuel RVP should be set at 9.0 or 7.8 pounds per square inch (psi) depending on the RVP required in the local area as a result of fuel RVP regulations promulgated in June, 1990.

For the Atlanta Area, these adjustments are made because states are not allowed to take credit for emissions reductions that would have occurred due to fleet turnover from vehicles meeting pre-1990 standards to newer cars and trucks, or from previously existing federal fuel regulations. These non-creditable reductions are called the FMVCP/RVP reductions. See Appendix C, Exhibits 5 and 8, of the State submittal for details on the Adjusted Base Year Inventories.

3. Step C: Calculate the difference between the 2002 and 2008 VOC emission factors calculated in Step B and multiply by the 2002 vehicle miles traveled. The result is the VOC emission calculation that will occur between 2002 and 2008 without the benefits of any post-1990-CAA measures. These are the non-creditable reductions that occur over this period.

Georgia calculated the non-creditable emission reductions between 2002 and 2008 by modeling its 2002 and 2008 motor vehicle emissions with all post-1990 CAA measures turned off, and calculating the difference.

4. Step D: Subtract the non-creditable reductions calculated in Step C from the actual anthropogenic 2002 inventory estimated in Step A. These adjusted inventories are the basis for calculating the target level of emissions in 2008.

The adjusted VOC inventory for calculating the target level of VOC emissions reductions in the 7-County area for 2008 is 114.0 tpd ⁹ (i.e., 123.5 tpd (the result of Step A) minus 9.6 tpd (the result of Step C)).

⁹ Number reflects the VOC emissions reductions stated in the October 21, 2009, submittal.

The adjusted NOX inventory for calculating the target level of NOX emissions reductions in the 13-County area for 2008 is 519.0 tpd (i.e., 562.1 tpd the result of Step A) minus 43.1 tpd (the result of Step C)).

5. Step E: Reduce the adjusted inventories calculated in Step D by 15 percent. The result is the target level of emissions in 2008 in order to meet the 2008 RFP requirement. The actual projected 2008 inventory for all sources with all control measures in place, including projected 2008 growth in activity, must be at or lower than this target level of emissions.

The targeted level of emissions reductions for the Atlanta Area to meet RFP requirements is 17.1 tpd of VOC (i.e, 114.0 tpd multiplied by 15 percent) in the 7-County area. Thus the required targeted level of VOC emissions is 96.9 tpd for the 7-County area.

The targeted level of emissions reductions for the Atlanta Area to meet RFP requirements is 77.9 tpd of NOX (i.e, 519.0 tpd multiplied by 15 percent) in the 13-County area. Thus the required targeted level of NOX emissions is 441.2 tpd for the 13-County area.

C. Final Analysis of Georgia's RFP Analysis for the Atlanta Area

As mentioned above, the required target level for the Atlanta Area to meet the initial RFP plan requirement is a 15 percent reduction in 2008 VOC emissions from the 7-County area and 15 percent reduction in 2008 NOX emissions from the 13-County area from the VOC and NOX emissions in 2002 (as adjusted per CAA requirements). Specifically, to meet this requirement, Georgia needed to demonstrate a reduction of at least 17.1 tpd VOC for the 7-County area and 77.9 tpd NOX for the 13-County area, respectively. Tables 5 and 6 below summarize the results of Georgia's calculations for this RFP analysis.

Table 5—15 Percent VOC RFP Analysis for the 7-County Portion of the Atlanta Area
Step from Method 1 | Matrix | VOC (tpd)
Step A | Total 2002 Base Year Anthropogenic VOC Emissions | 123.5
Step C | Non-Creditable VOC reductions | 9.6
Step D | 2002 Base Year minus the Non-Creditable Emissions | 114.0
Step E | 2008 Target Level of VOC Emissions | 96.9

Table 6—15 Percent NOX RFP Analysis for the 13-County Portion of the Atlanta Area
Step from Method 1 | Matrix | NOX (tpd)
Step A | Total 2002 Base Year Anthropogenic NOX Emissions | 562.1
Step C | Non-Creditable NOX reductions | 43.1
Step D | 2002 Base Year minus the Non-Creditable Emissions | 519.0
Step E | 2008 Target Level of NOX Emissions | 441.2

In its October 21, 2009, SIP revision, Georgia calculated the 2008 VOC and NOX emissions inventories for the Atlanta Area. These emissions inventories are provided in Table 7 below.

Table 7—2008 Projected Emissions (tpd) for the Atlanta Area
| Point | Area | Non-road mobile | On-road mobile | Total
13-County (NOX) | 99.9 | 25.2 | 104.3 | 221.2 | 450.7
7-County (VOC) | 6.7 | 49.1 | 12.9 | 41.1 | 109.8

As discussed above, the required target for NOX reductions in the 13-County Area for the year 2008 to meet the RFP requirements for the Atlanta Area is 77.9 tpd (i.e., 15 percent reduction from the adjusted 2002 baseline). The projected 13-County 2008 NOX emissions of 450.7 tpd are above the 2008 13-County NOX Target Level Emissions of 441.2 tpd by 9.5 tpd. However, there are unclaimed 2008 NOX reductions totaling 126.0 tpd available from the 7-County Area without an approved 1-hour ozone 15 Percent VOC Plan where RFP must be in VOC reductions. By applying 9.5 tpd of those available 7-County NOX reductions towards 13-County RFP, the 13-County NOX target is met, with 116.5 available nonattainment area NOX tons per day reductions remaining. See Table 8.

Table 8—2008 7-County Available NOX Reductions
| Point | Area | Non-road mobile | On-road mobile | Total
2002 Adjusted to 2008 Base Year 7-county NOX Inventory | 163.1 | 7.8 | 18.1 | 59.0 | 247.9
2008 7-County Projected NOX Inventory | 46.7 | 8.0 | 15.7 | 51.5 | 121.9
2008 7-County Available NOX Reductions | 116.4 | −0.2 | 2.3 | 7.5 | 126.0

The required target for VOC reductions in the 7-County area for the year 2008 to meet the RFP requirements for the Atlanta Area is 17.1 tpd (i.e., 15 percent reduction from the adjusted 2002 baseline). Although the projected 7-County 2008 VOC emissions of 109.8 tpd are above the 2008 7-County VOC Target Level Emissions of 96.9 tpd by 12.9 tpd, there are unclaimed 2008 VOC reductions totaling 74.6 tpd available from the 13-County Area for which there is an approved 1-hour ozone 15 Percent VOC Plan. By applying 12.9 tpd of those available 13-County VOC reductions towards 7-County RFP, the 7-County VOC target is met, with 61.7 available nonattainment area VOC tons per day reductions remaining. See Table 9.

Table 9—2008 13-County Available VOC Reductions
| Point | Area | Non-road mobile | On-road mobile | Total
2002 Adjusted to 2008 Base Year 13-county VOC Inventory | 15.9 | 297.8 | 137.7 | 145.1 | 596.4
2008 13-County Projected VOC Inventory | 14.5 | 269.2 | 107.4 | 130.7 | 521.8
2008 13-County Available VOC Reductions | 1.4 | 28.6 | 30.3 | 43.5 | 74.6

Thus, EPA is making the determination that Georgia's SIP revision demonstrates the required progress towards attainment for the Atlanta Area. In today's action, EPA is approving Georgia's RFP SIP revision submitted on October 21, 2009 as meeting the CAA and EPA's regulations regarding RFP.

IV. What are the 2008 NOX and VOC emissions inventories for the Atlanta area?

In support of its development of NOX and VOC MVEB for the 2008, Georgia, in its October 21, 2009, SIP revision, developed the NOX and VOC emissions inventories for the full 20-County Atlanta Area. These inventories are not required for the RFP plan but are necessary for the development of the MVEB. These emissions inventories are provided in Table 10 below.

Table 10—2008 20-County Atlanta Area Projected Emissions
[Tons per summer day]
| Point | Area | Non-road mobile | On-road mobile | Total
VOC | 21.1 | 318.3 | 120.3 | 171.78 | 631.5
NOX | 139.4 | 33.2 | 120.1 | 272.64 | 565.3

V. What is EPA's analysis of the 2008 MVEB for the Atlanta area?

Under section 176(c) of the CAA, new transportation plans, programs, and projects, such as the construction of new highways, must “conform” to (i.e., be consistent with) the part of the state's air quality plan that addresses pollution from cars and trucks. Conformity to the SIP means that transportation activities will not cause new air quality violations, worsen existing violations, or delay timely attainment of the NAAQS or any interim milestones. If a transportation plan does not conform, most new projects that would expand the capacity of roadways cannot go forward. Regulations at 40 CFR part 93 set forth EPA policy, criteria, and procedures for demonstrating and assuring conformity of such transportation activities to a SIP. The regional emissions analysis is one, but not the only, requirement for implementing transportation conformity. Transportation conformity is a requirement for nonattainment and maintenance areas. Maintenance areas are areas that were previously nonattainment for a particular NAAQS but have since been redesignated to attainment with an approved maintenance plan for that NAAQS.

Under the CAA, states are required to submit, at various times, control strategy SIPs and maintenance plans for nonattainment areas. These control strategy SIPs (including RFP and attainment demonstrations) and maintenance plans create MVEB for criteria pollutants and/or their precursors to address pollution from cars and trucks. Per 40 CFR part 93, an MVEB must be established for the target year and precursor pollutant of the RFP (i.e., in this case, for the target year of 2008 and for VOC and NOX). The MVEB is the portion of the total allowable emissions in the maintenance demonstration that is allocated to highway and transit vehicle use and emissions. See 40 CFR 93.101. The MVEB serves as a ceiling on emissions from an area's planned transportation system. The MVEB concept is further explained in the preamble to the November 24, 1993, Transportation Conformity Rule (58 FR 62188). The preamble also describes how to establish the MVEB in the SIP and how to revise the MVEB.

After interagency consultation with the transportation partners for the Atlanta Area, Georgia developed VOC and NOX MVEB for the year 2008. Specifically, Georgia developed these MVEB, as required, for the target year and relevant precursors—2008 and VOC and NOX. The MVEB for the Atlanta Area for Georgia's 2008 RFP plan are based on the projected 2008 mobile source emissions accounting for all mobile control measures. The 2008 MVEB are defined in Table 11 below.

Table 11—Total 20-County 2008 MVEB for the 1997 8-Hour Atlanta Area
[tpd]
2008 20-County MVEB | 2008 20-County MVEB: VOC | 2008 20-County MVEB: NOX
Total | 171.83 | 272.67

Through this rulemaking, EPA is approving the 2008 VOC and NOX MVEB for the Atlanta Area because EPA has made the determination that the Area maintains the 1997 8-hour ozone NAAQS with the emissions at the levels of the budgets. Once the MVEB for the Atlanta Area are approved or found adequate (whichever is completed first), they must be used for future conformity determinations for the 1997 8-hour ozone NAAQS for Metropolitan Planning Organizations' long-range transportation plans and transportation improvement programs. After thorough review, EPA is determining that the budgets meet the adequacy criteria, as outlined in 40 CFR 93.118(e)(4), and is now approving the budgets because they are consistent with RFP for the 1997 8-hour ozone NAAQS for the year 2008.

VI. What is the status of EPA's adequacy determination for the 2008 MVEB for the Atlanta area?

When reviewing a submitted “control strategy” SIP, RFP or maintenance plan containing a MVEB, EPA may affirmatively find the MVEB contained therein adequate for use in determining transportation conformity. Once EPA affirmatively finds the submitted MVEB is adequate for transportation conformity purposes, that MVEB must be used by state and federal agencies in determining whether proposed transportation projects conform to the SIP as required by section 176(c) of the CAA.

EPA's substantive criteria for determining adequacy of a MVEB are set out in 40 CFR 93.118(e)(4). The process for determining adequacy consists of three basic steps: public notification of a SIP submission, a public comment period, and EPA's adequacy determination. This process for determining the adequacy of submitted MVEB for transportation conformity purposes was initially outlined in EPA's May 14, 1999, guidance, “Conformity Guidance on Implementation of March 2, 1999, Conformity Court Decision.” EPA adopted regulations to codify the adequacy process in the Transportation Conformity Rule Amendments for the “New 8-Hour Ozone and PM2.5 National Ambient Air Quality Standards and Miscellaneous Revisions for Existing Areas; Transportation Conformity Rule Amendments—Response to Court Decision and Additional Rule Change,” on July 1, 2004 (69 FR 40004). Additional information on the adequacy process for transportation conformity purposes is available in the proposed rule entitled, “Transportation Conformity Rule Amendments: Response to Court Decision and Additional Rule Changes,” 68 FR 38974, 38984 (June 30, 2003).

As discussed earlier, Georgia's RFP plan submission includes VOC and NOX MVEB for the Atlanta Area for the year 2008. EPA reviewed the MVEB through the adequacy process. The Georgia SIP submission, including the 2008 MVEB for the Atlanta Area, was open for public comment on EPA's adequacy Web site on November 9, 2009, found at: http://www.epa.gov/otaq/stateresources/transconf/currsips.htm. The EPA public comment period on adequacy of the 2008 MVEB for the Atlanta Area, closed on December 9, 2009. EPA did not receive any comments, adverse or otherwise, during the adequacy process.

EPA intends to make its determination on the adequacy of the 2008 MVEB for the Atlanta Area for transportation conformity purposes by completing the adequacy process that was started on November 9, 2009. EPA finds the 2008 MVEB adequate and is approving the 2008 NOX and VOC MVEB. The new MVEB for NOX and VOC must be used for future transportation conformity determinations. For required regional emissions analysis years that involve 2008 or beyond, the applicable budgets will be the new 2008 MVEB established in this RFP plan, as defined in section V of this proposed rulemaking.

VII. Final Action

EPA is taking direct final action to approve a SIP revision, submitted on October 21, 2009, by the State of Georgia, through the GA EPD to meet the RFP requirements for the Atlanta Area for the 1997 8-hour ozone NAAQS. Additionally, EPA is approving the NOX and VOC MVEB for the Atlanta Area that were included in Georgia's RFP plan. Furthermore, EPA is finding the budgets adequate. These actions are being taken pursuant to section 110 of the CAA. As an administrative update, EPA is removing the numbering system in table (e) of 40 CFR 52.570.

EPA is publishing this rule without prior proposal because the Agency views this as a non-controversial revision and anticipates no adverse comments. However, in the proposed rules section of this issue of the Federal Register, EPA is publishing a separate document that will serve as the proposal to approve the SIP revision should adverse comment be filed. This rule will be effective on July 29, 2013 without further notice unless the Agency receives adverse comment by June 28, 2013. If EPA receives such comments, then EPA will publish a document withdrawing the final rule and informing the public that the rule will not take effect. All public comments received will then be addressed in a subsequent final rule based on the proposed rule. EPA will not institute a second comment period on this action. Any parties interested in commenting must do so at this time. If no such comments are received, the public is advised this rule will be effective on July 29, 2013 and no further action will be taken on the proposed rule.

VIII. Statutory and Executive Order Reviews

Under the CAA, the Administrator is required to approve a SIP submission that complies with the provisions of the Act and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by State law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 29, 2013. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of this issue of the Federal Register, rather than file an immediate petition for judicial review of this direct final rule, so that EPA can withdraw this direct final rule and address the comment in the proposed rulemaking. This action may not be challenged later in proceedings to enforce its requirements. See section 307(b)(2).

List of Subjects in 40 CFR Part 52

Environmental protection, Air pollution control, Incorporation by reference, Intergovernmental relations, Ozone, Reporting and recordkeeping requirements, and Volatile organic compounds.

Dated: May 13, 2013
A. Stanley Meiburg,
Acting Regional Administrator, Region 4.

40 CFR part 52 is amended as follows:

PART 52—[AMENDED]

1. The authority citation for part 52 continues to read as follows:

Authority: 42 U.S.C. 7401 et seq.

Subpart L—Georgia

2. Section 52.570(e) is amended by revising the table to read as follows:

§ 52. 570 Identification of plan.

* * * * *

(e) * * *

EPA-Approved Georgia Non-Regulatory Provisions
Name of nonregulatory SIP provision | Applicable geographic or nonattainment area | State submittal date/effective date | EPA approval date | Explanation
High Occupancy Vehicle (HOV) lane on I-85 from Chamblee-Tucker Road to State Road 316. High Occupancy Toll (HOT) lane on I-85 from Chamblee-Tucker Road to State Road 316 | Atlanta Metropolitan Area | 11/15/93 and amended on 6/17/96 and 2/5/10 | 3/18/99, 4/26/99 and 11/5/09 |
Clean Fuel Vehicles Revolving Loan Program | Atlanta Metropolitan Area | 6/17/96 | 4/26/99 |
Regional Commute Options Program and HOV Marketing Program | Atlanta Metropolitan Area | 6/17/96 | 4/26/99 |
HOV lanes on I-75 and I-85 | Atlanta Metropolitan Area | 6/17/96 | 4/26/99 |
Two Park and Ride Lots: Rockdale County-Sigman at I-20 and Douglas County-Chapel Hill at I-20 | Atlanta Metropolitan Area | 6/17/96 | 4/26/99 |
MARTA Express Bus routes (15 buses) | Atlanta Metropolitan Area | 6/17/96 | 4/26/99 |
Signal preemption for MARTA routes #15 and #23 | Atlanta Metropolitan Area | 6/17/96 | 4/26/99 |
Improve and expand service on MARTA's existing routes in southeast DeKalb County | Atlanta Metropolitan Area | 6/17/96 | 4/26/99 |
Acquisition of clean fuel buses for MARTA and Cobb County Transit | Atlanta Metropolitan Area | 6/17/96 | 4/26/99 |
ATMS/Incident Management Program on I-75/I-85 inside I-285 and northern ARC of I-285 between I-75 and I-85 | Atlanta Metropolitan Area | 6/17/96 | 4/26/99 |
Upgrading, coordination and computerizing intersections | Atlanta Metropolitan Area | 6/17/96 | 4/26/99 |
[Reserved]:
Atlantic Steel Transportation Control Measure | Atlanta Metropolitan Area | 3/29/00 | 8/28/00 |
Procedures for Testing and Monitoring Sources of Air Pollutants | Atlanta Metropolitan Area | 7/31/00 | 7/10/01 |
Enhanced Inspection/Maintenance Test Equipment, Procedures and Specifications | Atlanta Metropolitan Area | 9/20/00 | 7/10/01 |
Preemption Waiver Request for Low-RVP, Low-Sulfur Gasoline Under Air Quality Control Rule 391-3-1-.02(2)(bbb) | Atlanta Metropolitan Area | 5/31/00 | 2/22/02 |
Technical Amendment to the Georgia Fuel Waiver Request of May 31, 2000 | Atlanta Metropolitan Area | 11/9/01 | 2/22/02 |
Georgia's State Implementation Plan for the Atlanta Ozone Nonattainment Area | Atlanta Metropolitan Area | 7/17/01 | 5/7/02 |
Post-1999 Rate of Progress Plan | Atlanta Metropolitan Area | 12/24/03 | 7/19/04, 69 FR 42884 |
Severe Area Vehicle Miles Traveled (VMT SIP) for the Atlanta 1-hour severe ozone nonattainment area | Atlanta 1-hour ozone severe nonattainment area | 6/30/04 | 6/14/05, 70 FR 34358 |
Atlanta 1-hour ozone attainment area 2015 maintenance plan | Atlanta severe 1-hour ozone maintenance area | 2/1/05 | 6/14/05, 70 FR 34660 |
Attainment Demonstration for the Chattanooga Early Action Area | Walker and Catoosa Counties | 12/31/04 | 8/26/05, 70 FR 50199 |
Attainment Demonstration for the Lower Savannah-Augusta Early Action Compact Area | Columbia and Richmond Counties | 12/31/04 | 8/26/05, 70 FR 50195 |
Alternative Fuel Refueling Station/Park and Ride Transportation Center, Project DO-AR-211 is removed | Douglas County, GA | 9/19/06 | 11/28/06, 71 FR 68743 |
Macon 8-hour Ozone Maintenance Plan | Macon, GA encompassing a portion of Monroe County | 6/15/07 | 9/19/07, 72 FR 53432 |
Murray County 8-hour Ozone Maintenance Plan | Murray County | 6/15/07 | 10/16/07, 72 FR 58538 |
Atlanta Early Progress Plan | Barrow, Bartow, Carroll, Cherokee, Clayton, Cobb, Coweta, DeKalb, Douglas, Fayette, Forsyth, Fulton, Gwinnett, Hall, Henry, Newton, Paulding, Rockdale, Spalding and Walton counties | 1/12/07 | 2/20/08, 73 FR 9206 |
Rome; 1997 Fine Particulate Matter 2002 Base Year Emissions Inventory | Floyd County | 10/27/2009 | 1/12/12, 77 FR 1873 |
Chattanooga; Fine Particulate Matter 2002 Base Year Emissions Inventory | Catoosa and Walker Counties | 10/27/09 | 2/8/12; 77 FR 6467 |
110(a)(1) and (2) Infrastructure Requirements for the 1997 8-Hour Ozone National Ambient Air Quality Standards | Georgia | 10/13/2007 | 2/6/2012, 77 FR 5706 |
Atlanta 1997 Fine Particulate Matter 2002 Base Year Emissions Inventory | Barrow, Bartow, Carroll, Cherokee, Clayton, Cobb, Coweta, DeKalb, Douglas, Fayette, Forsyth, Fulton, Gwinnett, Hall, Henry, Newton, Paulding, Rockdale, Spalding and Walton Counties in their entireties and portions of Heard and Putnam Counties | 07/06/2010 | 3/1/2012, 77 FR 12487 |
Macon 1997 Fine Particulate Matter 2002 Base Year Emissions Inventory | Bibb County and Monroe County | 8/17/2009 | 3/02/12, 77 FR 12724 |
Atlanta 1997 8-Hour Ozone 2002 Base-Year Emissions Inventory | Barrow, Bartow, Carroll, Cherokee, Clayton, Cobb, Coweta, DeKalb, Douglas, Fayette, Forsyth, Fulton, Gwinnett, Hall, Henry, Newton, Paulding, Rockdale, Spalding and Walton Counties in their entireties | 10/21/2009 | 4/24/2012, 77 FR 24399 |
Regional Haze Plan | Statewide | 2/11/10 | 6/28/12, 77 FR 38501 |
Regional Haze Plan Supplement (including BART and Reasonable Progress emissions limits) | Statewide | 11/19/10 | 6/28/12, 77 FR 38501 |
110(a)(1) and (2) Infrastructure Requirements for 1997 Fine Particulate Matter National Ambient Air Quality Standards | Georgia | 7/23/2008 | 10/25/2012, 77 FR 65125 | With the exception of 110(a)(2)(D)(i).
110(a)(1) and (2) Infrastructure Requirements for 2006 Fine Particulate Matter National Ambient Air Quality Standards | Georgia | 10/21/2009 | 10/25/2012, 77 FR 65125 | With the exception of 110(a)(2)(D)(i).
Negative Declaration for Control of VOC Emissions from Reactor Processes and Distillation Operations in Synthetic Organic Chemical Manufacturing Industry (SOCMI) EPA-450/4-91-031, August 1993 | Atlanta 1997 8-Hour Ozone Nonattainment Area | 10/21/2009 | 09/28/2013
Negative Declaration for Control of VOC Emissions from Equipment Leaks from Natural Gas/Gasoline Processing Plants EPA-450/3-83-007, December 1983 | Atlanta 1997 8-Hour Ozone Nonattainment Area | 10/21/2009 | 09/28/2013 |
Negative Declaration for Control of VOC Leaks from Synthetic Organic Chemical Polymer and Resin Manufacturing Equipment EPA-450/3-83-006, March 1984 | Atlanta 1997 8-Hour Ozone Nonattainment Area | 10/21/2009 | 09/28/2013 |
Negative Declaration for Control of VOC Emissions from Air Oxidation Processes in Synthetic Organic Chemical Manufacturing Industry (SOCMI), EPA-450/3-84-015, December 1984 | Atlanta 1997 8-Hour Ozone Nonattainment Area | 10/21/2009 | 09/28/2013 |
110(a)(1) and (2) Infrastructure Requirements for 1997 Fine Particulate Matter National Ambient Air Quality Standards | Georgia | 7/23/2008 | 4/12/2013 | Addressing element 110(a)(2) (D)(i)(II) prong 3 only
110(a)(1) and (2) Infrastructure Requirements for 2006 Fine Particulate Matter National Ambient Air Quality Standards | 110(a)(1) and (2) Infrastructure Requirements for 1997 Fine Particulate Matter National Ambient Air Quality Standards | 10/21/2009 | 4/12/2013 | Addressing element 110(a)(2) (D)(i)(II) prong 3 only
1997 8-Hour Ozone Reasonable Further Progress Plan for Atlanta Area | Atlanta 1997 8-Hour Ozone Nonattainment Area | 10/21/2009 | 5/29/2013 |

[FR Doc. 2013-12467 Filed 5-28-13; 8:45 am]

BILLING CODE 6560-50-P